ENVIRONMENTAL PROTECTION AGENCY

[EPA-HQ-OPP-2023-0445; FRL-11370-02-OCSPP]

Pesticides; Concept for a Framework To Assess the Risk to the Effectiveness of Human and Animal Drugs Posed by Certain Antibacterial or Antifungal Pesticides; Notice of Availability and Request for Comment; Extension of Comment Period

AGENCY: Environmental Protection Agency (EPA).

ACTION: Notice; extension of comment period.

SUMMARY: In the Federal Register of September 26, 2023, EPA announced the availability of and solicited public comment on the concept for developing a framework to improve assessments of potential risks to human and animal health where the use of certain pesticides could potentially result in antimicrobial resistance (AMR) that compromises the effectiveness of medically important antibacterial and antifungal drugs; and sought feedback on research gaps and other information to help inform the risk assessment and mitigation processes. This document extends the comment period, which was scheduled to end on November 13, 2023, for 30 days. The Environmental Protection Agency (EPA) is extending the comment period for the notice, “Pesticides; Concept for a Framework to Assess the Risk to the Effectiveness of Human and Animal Drugs Posed by Certain Antibacterial or Antifungal Pesticides; Notice of Availability and Request for Comment.” EPA published the notice in the Federal Register on September 26, 2023, and the public comment period was scheduled to end on November 13, 2023. However, EPA has received requests for additional time to develop and submit comments on the notice. In response to the request for additional time, the EPA is extending the comment period for an additional 30 days, through December 13, 2023.

DATES: The comment period for the document published on September 26, 2023, at 88 FR 65998 (FRL-11370-01-OCSPP), is extended. Comments must be received on or before December 13, 2023.

ADDRESSES: Submit your comments, identified by docket identification (ID) number EPA-HQ-OPP-2023-0445, through the Federal eRulemaking Portal at https://www.regulations.gov. Follow the online instructions for submitting comments. Do not submit electronically any information you consider to be Confidential Business Information (CBI) or other information whose disclosure is restricted by statute. Additional instructions on commenting and visiting the docket, along with more information about dockets generally, is available at https://www.epa.gov/dockets.

FOR FURTHER INFORMATION CONTACT: Susan Jennings, Immediate Office (7501M), Office of Pesticide Programs, Environmental Protection Agency, 1201 Constitution Ave. NW, Washington, DC 20004; telephone number: (706) 355-8574; email address: jennings.susan@epa.gov.

SUPPLEMENTARY INFORMATION: To give stakeholders additional time to review materials and prepare comments, EPA is hereby extending the comment period established in the Federal Register of September 26, 2023 (88 FR 65998) (FRL-11370-01-OCSPP) for 30 days, from November 13, 2023, to December 13, 2023. More information on the action can be found in the Federal Register of September 26, 2023.

To submit comments or access the docket, please follow the detailed instructions provided under ADDRESSES. If you have questions, consult the technical person listed under FOR FURTHER INFORMATION CONTACT.

Authority: 7 U.S.C. 136 et seq.

Dated: October 26, 2023.
Michal Freedhoff,
Assistant Administrator, Office of Chemical Safety and Pollution Prevention.

[FR Doc. 2023-24065 Filed 10-31-23; 8:45 am]

BILLING CODE 6560-50-P